DEPARTMENT OF AGRICULTURE

Agricultural Marketing Service

[Document No. AMS-ST-13-0019]

Plant Variety Protection Board; Open Teleconference Meeting

AGENCY: Agricultural Marketing Service, USDA.

ACTION: Notice of meeting.

SUMMARY: This notice is intended to notify the public of their opportunity to attend an open meeting of the Plant Variety Protection Board.

DATES: July 31, 2013 2:00 p.m. to 4:00 p.m., open to the public.

ADDRESSES: The meeting will be held at the United States Department of Agriculture, Room 4530, South Building, 1400 Independence Avenue SW., Washington, DC 20250.

FOR FURTHER INFORMATION CONTACT: Ms. Jennifer Banks, Plant Variety Protection Office, Science and Technology Programs, Agricultural Marketing Service, United States Department of Agriculture, 1400 Independence, Avenue SW., Washington, DC 20250. Telephone number (202) 260-8983, fax (202) 260-8976, or email: jennifer.banks@ams.usda.gov.

SUPPLEMENTARY INFORMATION: Pursuant to the provisions of section 10(a) of the Federal Advisory Committee Act (5 U.S.C., Appendix 2), this notice is given regarding an upcoming Plant Variety Protection (PVP) Board meeting. The Plant Variety Protection Act (PVPA) (7 U.S.C. 2321 et seq.) provides legal protection in the form of intellectual property rights to developers of new varieties of plants, which are reproduced sexually by seed or are tuber-propagated. A Certificate of Plant Variety Protection is awarded to an owner of a crop variety after an examination shows that it is new, distinct from other varieties, genetically uniform and stable through successive generations. The term of protection is 20 years for most crops and 25 years for trees, shrubs, and vines. The PVPA also provides for a statutory Board (7 U.S.C. 2327). The duties of the Board are to: (1) Advise the Secretary concerning the adoption of rules and regulations to facilitate the proper administration of the Act; (2) provide advisory counsel to the Secretary on appeals concerning decisions on applications by the PVP Office and on requests for emergency public-interest compulsory licenses; and (3) advise the Secretary on any other matters under the Regulations and Rules of Practice and on all questions under Section 44 of the Act, “Public Interest in Wide Usage” (7 U.S.C. 2404).

The purpose of the meeting will be to introduce the topics of the PVP Office's 2013 achievements, ongoing process improvements, plans for electronic applications/database conversion, and concepts on using molecular techniques for PVP distinctness characterization. The proposed agenda for the PVP Board meeting will include a welcome by Department officials followed by a discussion focusing on program activities that encourage the development of new plant varieties and appeals to the Secretary. The agenda will also include presentations on the PVP Process Improvement, electronic PVP application/computer database development, and the use of molecular markers for PVP applications.

The meeting will be open to the public. Those wishing to attend or phone into the meeting are encouraged to pre-register by July 24, 2013 with the person listed under FOR FURTHER INFORMATION CONTACT. If you require accommodations, such as sign language interpreter, please contact the person listed under FOR FURTHER INFORMATION CONTACT. Minutes of the meeting will be available for public review 30 days following the meeting at the address listed under FOR FURTHER INFORMATION CONTACT. The minutes will also be posted on the Internet Web site http://www.ams.usda.gov/PVPO.

Dated: June 14, 2013.
Rex A. Barnes,
Associate Administrator, Agricultural Marketing Service.

[FR Doc. 2013-14713 Filed 6-19-13; 8:45 am]

BILLING CODE 3410-02-P